DEPARTMENT OF DEFENSE

Office of the Secretary

[Transmittal No. 23-71]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(1) arms sales notification is published to fulfill the requirements of section 155 of Public Law 104-164 dated July 21, 1996. The following is a copy of a letter to the Speaker of the House of Representatives with attached Transmittal 23-71, Policy Justification, and Sensitivity of Technology.

Dated: November 14, 2024.
Stephanie J. Bost,
Alternate OSD Federal Register Liaison Officer, Department of Defense.

BILLING CODE 6001-01-P

BILLING CODE 6001-01-C

Transmittal No. 23-71

Notice of Proposed Issuance of Letter of Offer Pursuant to Section 36(b)(1) of the Arms Export Control Act, as amended

(i) Prospective Purchaser: Government of Romania

(ii) Total Estimated Value:

Major Defense Equipment * | $0.97 billion
Other | $1.56 billion
TOTAL | $2.53 billion

Funding Source: National Funds

(iii) Description and Quantity or Quantities of Articles or Services under Consideration for Purchase:

Major Defense Equipment (MDE):

Fifty-four (54) M1A2 SEPv3 Abrams Main Battle Tanks

Fifty-four (54) M1A1 Structures

Four (4) M88A2 HERCULES Combat Recovery Vehicles

Four (4) M1110 Joint Assault Bridges

Four (4) M1150 Assault Breacher Vehicles

Four (4) Heavy Assault Scissor Bridge (HASB)

Fifty-four (54) M240C 7.62mm Machine Guns

Ten (10) AGT1500 Gas Turbine Engines

Five thousand nine hundred forty (5,940) 120mm M1147 High Explosive, Multipurpose, Tracer (HEMP-T) Cartridges

Four thousand two hundred thirty (4,230) 120mm M1002 Target Practice Multipurpose, Tracer (TPMP-T) Cartridges

Non-MDE:

Also included are mine rollers; Enhanced Heavy Equipment Transporter (EHET) M1300 tractors with M1302 trailer with B-Kit/Frag Kit; Heavy Expanded Mobility Tactical Truck (HEMTT) M978A4 with B-Kit/Frag Kit; Tank Rack Modules (TRM) M107A1 fuel trailer (2500 gal) with B-Kit/Frag Kit; HEMTT A4 M1120 Load Handling System (LHS) with B-Kit/Frag Kit; Ml076Al with flat rack and B-Kit/Frag Kit; Forward Repair Systems; trailer mounted generators; Common Remote Operated Weapons Station Low Profile (CROWS-LP); M2A1 .50 caliber machine guns; communications equipment; global positioning system (GPS) receivers; service and training ammunition; spare and repair parts; Special Tools and Test Equipment (STTE); technical manuals and publications; maintenance trainers; gunnery training systems; tank driver's trainers; new equipment training; U.S. Government and contractor technical, engineering, and logistics personnel services; concurrent spare parts; Field Service Representative (FSR) support; Contractor Logistics Support (CLS); Next Generation Automatic Test System (NGATS); logistics products; tank range upgrade; Intensive Management Office (IMO); Foreign Liaison Officer (FLO); Program Management Reviews (PMR); test measurement and diagnostic equipment; and other related elements of logistics and program support.

(iv) Military Department: Army (RO-B-UGI)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: November 9, 2023

* As defined in Section 47(6) of the Arms Export Control Act.

POLICY JUSTIFICATION

Romania—M1A2 Abrams Main Battle Tanks

The Government of Romania has requested to buy fifty-four (54) M1A2 SEPv3 Abrams Main Battle Tanks; fifty-four (54) M1A1 Structures; four (4) M88A2 HERCULES Combat Recovery Vehicles; four (4) M1110 Joint Assault Bridges; four (4) M1150 Assault Breacher Vehicles; four (4) Heavy Assault Scissor Bridges (HASB); fifty-four (54) M240C 7.62mm machine guns; ten (10) AGT1500 Gas Turbine engines; five thousand nine hundred forty (5,940) 120mm M1147 High Explosive, Multipurpose, Tracer (HEMP-T) cartridges; and four thousand two hundred thirty (4,230) 120mm M1002 Target Practice Multipurpose, Tracer (TPMP-T) cartridges. Also included are mine rollers; Enhanced Heavy Equipment Transporter (EHET) M1300 tractors with M1302 trailer with B-Kit/Frag Kit; Heavy Expanded Mobility Tactical Truck (HEMTT) M978A4 with B-Kit/Frag Kit; Tank Rack Modules (TRM) M107A1 fuel trailer (2500 gal) with B-Kit/Frag Kit; HEMTT A4 M1120 Load Handling System (LHS) with B-Kit/Frag Kit; Ml076Al with flat rack and B-Kit/Frag Kit; Forward Repair Systems; trailer mounted generators; Common Remote Operated Weapons Station Low Profile (CROWS-LP); M2A1 .50 caliber machine guns; communications equipment; global positioning system (GPS) receivers; service and training ammunition; spare and repair parts; Special Tools and Test Equipment (STTE); technical manuals and publications; maintenance trainers; gunnery training systems; tank driver's trainers; new equipment training; U.S. Government and contractor technical, engineering, and logistics personnel services; concurrent spare parts; Field Service Representative (FSR) support; Contractor Logistics Support (CLS); Next Generation Automatic Test System (NGATS); logistics products; tank range upgrade; Intensive Management Office (IMO); Foreign Liaison Officer (FLO); Program Management Reviews (PMR); test measurement and diagnostic equipment; and other related elements of logistics and program support. The estimated total program cost is $2.53 billion.

This proposed sale will support the foreign policy and national security objectives of the United States (U.S.) by helping to improve the security of a NATO Ally which is an important force for political and economic stability in Europe.

The proposed sale will improve Romania's capability to meet current and future threats by providing a credible force that is capable of deterring adversaries and participating in NATO operations. Romania will have no difficulty absorbing this equipment into its armed forces.

The proposed sale of this equipment and support will not alter the basic military balance in the region.

The principal contractors will be General Dynamics Land Systems, Sterling Heights, MI; BAE Systems, York, PA; Leonardo DRS, Arlington, VA; Honeywell Aerospace, Phoenix, AZ; Raytheon Company, McKinney, TX; Lockheed Martin, Orlando, FL; L3 Harris, Melbourne, FL; American Apex Corporation, Delaware, OH; Allison Transmissions, Indianapolis, IN; Pearson Engineering, New Castle, United Kingdom; Amentum, Chantilly, VA; CAE, Chantilly, VA; Palomar, Carlsbad, CA; Boeing Company, Arlington, VA; Fibrotex, Stearns, KY; and US Ordnance, McCarran, NV. There are no known offset agreements proposed in connection with this potential sale.

Implementation of this proposed sale will require approximately (22) U.S. Government and (52) U.S. contractor representatives to travel to Romania for a duration of up to five years to support equipment fielding and training.

There will be no adverse impact on U.S. defense readiness as a result of this proposed sale.

Transmittal No. 23-71

Notice of Proposed Issuance of Letter of Offer Pursuant to Section 36(b)(1) of the Arms Export Control Act

Annex

Item No. vii

(vii) Sensitivity of Technology:

1. M1A2 SEPv3 Abrams Tank: The M1A2 Abrams is a third-generation American main battle tank, produced by General Dynamics Land Systems and named for General Creighton Abrams. The M1A2 SEPv3 (System Enhancement Package version 3) features include a multi-fuel turbine engine, composite armor, an advanced computer fire control system, separate ammunition storage in a blow-out compartment, and 120mm main gun. Extensive improvements have been integrated into the latest M1A2 SEPv3 configuration. These improvements include improved digital systems, increased electrical power margin to support demands of future technologies, line replaceable modules (LRM) to reduce operational support costs, ammunition data link to support new tank main gun rounds, and an auxiliary power unit (APU). M1A2 SEPv3 Abrams tank components include:

a. Export Thermal Imaging System (TIS) and Export Commander's Independent Thermal Viewer (CITV): The TIS and CITV constitutes a target acquisition system which, when operated with other tank systems, gives the tank crew a substantial advantage over the potential threat. The TIS provides the Abrams M1A2 crew with the ability to effectively aim and fire the tank main armament system under a broad range of adverse battlefield conditions. The TIS can be operated and viewed by the tank gunner or tank commander and is the main sighting system for the tanks' main gun (cannon). The CITV provides the same target acquisition system as the TIS but provides the tank commander a separate system that can be controlled and operated independent of the TIS.

b. Special Armor (Foreign Military Sales-released version of special armor): Major components of special armor are fabricated in sealed modules and in serialized removable sub-assemblies.

c. 120mm Main Gun (Cannon) & M256 Gun Barrel: The Abrams 120mm main gun system is composed of: a 120 millimeter (mm) smoothbore gun (cannon), also referred to as the M256 gun barrel, manufactured at Watervliet Arsenal; armor-piercing, fin stabilized, discarded sabot (APFSDS) and other warheads; and combustible cartridge case ammunition.

d. AGT-1500 Gas Turbine Propulsion System: The use of AGT-1500 gas turbine propulsion system in the M1A2 is a unique application of armored vehicle power pack technology. The hardware is composed of the AGT-1500 engine and transmission.

e. Common Remotely Operated Weapon Station—Low Profile (CROWS-LP): The CROWS-LP (M153A2E1) is a commander's weapon station. It allows for operation of weapons—M2HB, M2A1, M240B and M240 machine guns. The CROWS-LP is an updated version of the M153A2 CROWS. The CROWS-LP M153A2E1 has improved performance over M1553A2.

f. Ammunition Data Link (ADL): The Ammunition Data Link (ADL) is a system consisting of hardware, electronics, software and an upgraded fire control system. The ADL is required to effectively fire the latest generation of “smart” 120mm main gun ammunition. The ADL offers the capability to supply data to the main gun ammunition to increase the capability and effectiveness of the smart round. The Advanced Multipurpose (AMP) smart round requires the ADL to function and is a future enhancement for use with the M1A2 Abrams.

g. Driver Vision Enhancer—Abrams (DVE-A) AN/VAS-5 and Rear-View Sensor System (RVSS): The DVE-A and M88 DVEs are thermal imaging systems developed for use while driving combat vehicles and tactical wheeled vehicles. The DVE provides night vision capability for the Abrams tank driver. RVSS provides a rear-view camera for the Abrams tank. DVE, DVE-Wide (JAB), DVE-A, and RVSS allow for tactical vehicle movement in support of operational missions in all environmental conditions (day/night and all weather) and provides enhanced driving capability during limited visibility conditions (darkness, smoke, dust, fog, etc.).

h. Militarized GPS Receiver Global Positioning System (GPS) AN/PSN-13 Defense Advanced GPS Receiver (DAGR): Militarized GPS capability is currently provided to military vehicles using the DAGR. The DAGR is a handheld GPS receiver which utilizes Selective Availability Anti-Spoofing Module (SAASM) security. It is used for the Abrams tank, the M88A2 HERCULES Recovery Vehicle, and the Joint Assault Bridge.

i. Communication Radio “Falcon III RF-7850D: The Falcon III RF-7850D is a multi-channel radio. It is a portable, compact, tactical software-defined combat-net radio manufactured by L3 Harris Corporation. It is also referred to as the Falcon III RF-7850D Multi-Channel Manpack Radio System. It is used for the Abrams tank and M88A2 HERCULES Recovery Vehicle.

j. PVS-14 Night Vision Monocular: The PVS-14 Night Vision Monocular is a rugged, lightweight, multi-purpose night vision device that has repeatedly proven itself in combat. The PVS-14 design was originally commissioned by the U.S. military to enable nighttime operations. This monocular is used globally in some of the most challenging environments. The PVS-14 can be used as a handheld device or mounted on a head harness. The PVS-14 monocular conforms to 810G Military standards and demonstrates the highest quality form and function.

2. Battle Management System (BMS): The BMS SEPv3 tank will consist of a Data Distribution Unit—Expandable (DDUx), a transceiver, and a commercial software called BC2A platform software by Interactive. It equips soldiers with secure data encryption and advanced logistics. It includes an intuitive interface with features like touch-to-zoom maps and drag-and-drop icons. It is used for the Abrams tank, M88A2 Recovery Vehicle, Joint Assault Bridges (JAB), Assault Breacher Vehicles (ABV), EHET M1300, HEMTT M978A4, and MEMTTA4A M1120.

3. M88A2 HERCULES Recovery Vehicle: The primary role of the M88A2 Heavy Equipment Recovery Combat Utility Lifting Extraction System (HERCULES) Combat Recovery Vehicle is recovery of the Abrams M1 Main Battle Tank. The 70-ton M88A2 Recovery Combat Vehicle is standard equipment to de-process, recover, and sustain the Abrams M1 Tank. The vehicle's role is to extricate combat vehicles that have become bogged down or entangled and to repair or replace damaged parts in fighting vehicles while under fire. The M88A2 main winch is capable of 70-ton single line recovery and of 140-ton 2:1 recovery when used with a 140-ton pulley. The A-frame boom of the M88A2 can lift 35 tons when used in conjunction with the spade down. The spade can be used for light earth moving and to anchor the vehicle when using the main winch. The M88A2 employs an Auxiliary Power Unit (APU) to provide auxiliary electrical and hydraulic power when the main engine is not in operation; the APU can also be used to slave start other vehicles. The M88A2 recovery vehicle components considered to contain sensitive technology in the proposed case are as follows:

AVDS-1790-8CR Engine Propulsion System: The AVDS-1790-8CR is a unique modification to the standard piston engine family in the M60 series and is an upgrade from the engine in the base M88Al.

4. M1110 Joint Assault Bridge: The M1110 Joint Assault Bridge (JAB) is a fully tracked armor engineer vehicle specifically designed to replace the M48/M60 AVLB and M104 Wolverine HAB and to provide assault bridging capabilities to armored forces. The JAB System consists of an M1A1 Abrams chassis (with A2 heavy suspension) and a hydraulic bridge launch mechanism that will launch and retrieve the Heavy Assault Scissor Bridge MLC-115 Normal and MLC-124 Caution. The JAB contains:

a. Armor: Major components of the armor are fabricated and assembled into serialized removable subassemblies and installed in sealed modules.

b. AGT-1500 Gas Turbine Propulsion System: The use of AGT-1500 gas turbine propulsion system in the JAB is a unique application of armored vehicle power pack technology. The hardware is composed of the AGT-1500 engine and transmission.

5. M830A1 120mm High Explosive Anti-Tank (HEAT) TP-T Cartridges are a chemical energy, multi-purpose projectile with an anti-personnel capability. The round consists of a fin stabilized steel body which is loaded with Composition A3 Type II explosive. The fins are canted and impart spin to the projectile. A copper shaped charge liner and wave shaper are contained within the warhead.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that Romania will provide substantially the same degree of protection for the sensitive technology being released as the U.S. Government. This sale is necessary in furtherance of the U.S. foreign policy and national security objectives outlined in the Policy Justification.

9. All defense articles and services listed in this transmittal have been authorized for release and export to the Government of Romania.

[FR Doc. 2024-26984 Filed 11-19-24; 8:45 am]

BILLING CODE 6001-FR-P